DEPARTMENT OF HEALTH AND HUMAN SERVICES

Centers for Disease Control and Prevention

[60Day-03-24]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Families, Communities, and Diabetes Management Project—New—National Center for Chronic Disease Prevention and Health Promotion (NCCDPHP), Centers for Disease Control and Prevention (CDC).

Diabetes Mellitus Type 2 is a chronic metabolic disease with a potential for serious health consequences that include both psychological and physical conditions. Effective management of this disease is important to prevent the development of these problems. No previous studies have systematically examined the ways in which psychological functioning, patient-provider relationships, family and social support, health insurance availability and utilization, lifestyle practices, and community support influence diabetes self-management among African American patients. Most diabetes management information is based on research conducted primarily with White patients. Accordingly, the Division of Diabetes Translation within the National Center for Chronic Disease Prevention and Health Promotion of the Centers for Disease Control and Prevention plans to conduct a longitudinal, family-centered research project to determine optimal ways of teaching African American patients and their families how to work together to manage diabetes successfully.

The research will involve samples of 40- to 64-year-old African American men and women with Type 2 diabetes and their close family members. Participating families will be divided into two groups, an intervention group that will receive the intervention at the beginning of the study, and a comparison group that will receive a modified version at the end. Measurements of self-care adherence and diabetes control will include both self-reports and objective measures such as blood glucose levels obtained through clinical lab work. Other data will include diabetes knowledge, community characteristics, social support, community support, psychological functioning, patient-provider relationships, and health care coverage. Participant involvement will occur over 13 month period. The estimated cost to respondents is $213,236.

respondents | No. of respondents | No. of responses/respondent | Avg. burden/response (in hrs.) | Total burden (in hrs.)
Adults with Diabetes:
Questionnaires | 400 | 3 | 60/60 | 1200
Clinical Lab Work | 400 | 3 | 60/60 | 1200
Glucose Test Meter Training | 400 | 1 | 60/60 | 400
Family Members: Questionnaires | 400 | 3 | 45/60 | 900
Teenagers: Questionnaires | 400 | 3 | 30/60 | 600
Total |  |  |  | 4300

Dated: December 19, 2002.
Nancy E. Cheal,
Acting Associate Director for Policy, Planning and Evaluation, Centers for Disease Control and Evaluation.

[FR Doc. 02-32516 Filed 12-24-02; 8:45 am]

BILLING CODE 4163-18-P